DEPARTMENT OF HOMELAND SECURITY

U.S. Immigration and Customs Enforcement

[OMB Control Number 1653-0041]

Agency Information Collection Activities; Revision of a Currently Approved Collection: Designation of Attorney in Fact/Revocation of Designation of Attorney in Fact

AGENCY: U.S. Immigration and Customs Enforcement, Department of Homeland Security.

ACTION: 60-Day notice.

SUMMARY: In accordance with the Paperwork Reduction Act (PRA) of 1995, the Department of Homeland Security (DHS), U.S. Immigration and Customs Enforcement (ICE) will submit the following Information Collection Request (ICR) to the Office of Management and Budget (OMB) for review and clearance.

DATES: Comments are encouraged and will be accepted until April 18, 2022.

ADDRESSES: All submissions received must include the OMB Control Number 1653-0041 in the body of the correspondence, the agency name and Docket ID ICEB-2009-0001. All comments received will be posted without change to http://www.regulations.gov, including any personal information provided.

(1) Online. Submit comments via the Federal eRulemaking Portal website at http://www.regulations.gov under e-Docket ID number ICEB-2009-0001.

FOR FURTHER INFORMATION CONTACT: If you have questions related to this collection, call, or email John Monette, Revenue Management Branch, (802) 288-7697, john.p.monette@ice.dhs.gov.

SUPPLEMENTARY INFORMATION:

Comment

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Revision of a Currently Approved Collection.

(2) Title of the Form/Collection: Designation of Attorney in Fact/Revocation of Attorney in Fact.

(3) Agency form number, if any, and the applicable component of the Department of Homeland Security sponsoring the collection: I-312/I-312A; U.S. Immigration and Customs Enforcement.

(4) Affected public who will be asked or required to respond, as well as a brief abstract: Primary: State, Local, or Tribal Government. Section 103.6, the Immigration and Nationality Act (INA), provides for the posting of surety or cash bonds. All bonds posted in immigration cases shall be executed on Form I-352, Immigration Bond, and secured with some form of collateral by an Obligor. In the case of a cash bond, the Obligor will deposit with U.S. Immigration and Customs Enforcement (ICE) the face value of the bond. The Obligor can designate a third party as an Attorney in Fact to accept on their behalf the return of the collateral security deposited to secure the surety bond upon cancellation of the bond or performance of the Obligor. The Form I- 312, Designation of Attorney in Fact, is the instrument used by the Obligor to officially designate their Attorney in Fact. Upon receipt of a properly executed Form I-312, ICE Financial Operations will remit to the Attorney in Fact the principal and interest on the security deposit in the event of a bond cancellation, or the interest on the security deposit in the event of a bond breach. Immigration bonds might remain in place for years, and Obligors might choose to appoint a new Attorney in Fact as circumstances change. To ensure that ICE Financial Operations properly executes its fiduciary duties to the Obligor under the Form I-352 bond contract, and exercises due diligence in ensuring that remittances are made to the proper person, ICE uses Form I-312A as the document by which the Obligor could expressly indicate that a previously valid Form I-312 Attorney in Fact designation had been revoked. The requested revisions are specific to the instructions concerning obligor requirements and the attorney's authority to perform acts necessary to receive proceeds of the bond. There are revisions to the I-312 instructions. The revisions relate to the obligor requirements and to the attorney's authority to perform acts necessary to received bond proceeds.

(5) An estimate of the total number of respondents and the amount of time estimated for an average respondent to respond: 193 responses at 1 hour (60 minutes) per response.

(6) An estimate of the total public burden (in hours) associated with the collection: 193 annual burden hours.

(7) An estimate of the total public burden (in cost) associated with the collections: $6,370.

Dated: February 10, 2022.
Scott Elmore,
PRA Clearance Officer.

[FR Doc. 2022-03228 Filed 2-14-22; 8:45 am]

BILLING CODE 9111-28-P